DEPARTMENT OF AGRICULTURE

Forest Service

Notice of Dixie Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 110-343) the Dixie Resource Advisory Committee will meet Tuesday, June 25, 2013 at 1:00 p.m. in Cedar City, Utah for a business meeting. The business meeting is open to the public.

DATES: June 25, 2013.

ADDRESSES: The meeting location is the Dixie National Forest Supervisor's Office, located at 1789 North Wedgewood Lane, Cedar City, Utah 84721.

FOR FURTHER INFORMATION CONTACT: Janice Minarik, Dixie RAC Coordinator, at (435) 865-3794.

SUPPLEMENTARY INFORMATION: The meeting agenda will focus on reviewing proposals for forest projects and recommending funding during the business meeting. The public forum begins at 1:00 p.m.

Dated: June 5, 2013.
Angelita S. Bulletts,
Forest Supervisor.

[FR Doc. 2013-14038 Filed 6-12-13; 8:45 am]

BILLING CODE 3410-11-P